DEPARTMENT OF COMMERCE

[Docket No. 160309221-6221-01]

RIN 0605-XC034

Privacy Act of 1974; Amended System of Records

AGENCY: National Oceanic and Atmospheric Administration, U.S. Department of Commerce.

ACTION: Notice of proposed amendment to Privacy Act system of records: COMMERCE/NOAA-3, Commissioned Officer Official Personnel Folders.

SUMMARY: This notice announces the Department of Commerce's (Department's) proposal to amend the system of records entitled “COMMERCE/NOAA-3, “Commissioned Officer Official Personnel Folders” under the Privacy Act of 1974, as amended. This amendment would change the name of the SORN from the “Commissioned Officer Official Personnel Folders” to “NOAA Corps Officer Official Personnel Folders.” This amendment would also update the following sections of the current NOAA-3: Addresses, For Further Information Contact, Security Classification, Authority for Maintenance of the System, Storage, Purposes, and Routine Uses.

The National Oceanic and Atmospheric Administration (NOAA) Commissioned Officer Corps (NOAA Corps) is the uniformed service of NOAA, a bureau of the Department. The NOAA Corps provides a cadre of professionals trained in engineering, earth sciences, oceanography, meteorology, fisheries science, and other related disciplines who serve their country by supporting NOAA's mission of surveying the Earth's oceans, coasts, and atmosphere to ensure the economic and physical well-being of the Nation. Personnel records and folders must be created as they are required by law, Executive Order, operational guidance from central management agencies, and/or agency records management programs.

DATES: To be considered, written comments must be submitted on or before June 6, 2016. Unless comments are received, the amended system of records will become effective as proposed on June 14, 2016. If comments are received, the Department will publish a subsequent notice in the Federal Register within 10 days after the comment period closes, stating that the current system of records will remain in effect until publication of a final action in the Federal Register.

ADDRESSES: Comments may be mailed to Director, NOAA Corps, 8403 Colesville Road, Suite 500, NOAA, Silver Spring, Maryland 20910.

FOR FURTHER INFORMATION CONTACT: Director, NOAA Corps, 8403 Colesville Road, Suite 500, NOAA, Silver Spring, Maryland 20910.

SUPPLEMENTARY INFORMATION: This notice announces NOAA's proposal to amend the system of records entitled “COMMERCE/NOAA-3, “Commissioned Officer Official Personnel Folders.” In addition to changing the name to NOAA Corps Officer Official Personnel Folders, this system of records is being updated to add Addresses, For further Information Contact, and Security Classification sections. It is also needed to update the Authority for maintenance of the system and the Policies and practices for storing, retrieving, accessing, retaining and disposing of records in the system sections. NOAA Corps records are created and maintained for all members—active, retired, and deceased—of the NOAA Corps. Selected information is disseminated to determine eligibility for retention, promotion, retirement, separation, and other personnel actions; physical fitness; entitlement to pay and various allowances; entitlement to social security benefits, Veteran's benefits, unemployment compensation, waivers for repayment of student loans, death benefits, survivor benefits, and FHA in-service loans; assignments; selective service status; and to report taxes withheld.

COMMERCE/NOAA-3

System Name:

COMMERCE/NOAA-3, NOAA Corps Officer Official Personnel Folders

Security Classification:

Moderate

System Location:

Office of the Director, NOAA Corps, NOAA, Silver Spring, Maryland 20910.

Categories of Individuals Covered By The System:

Commissioned Officers of the NOAA Corps (active, retired, and deceased) and commissioned officers who have been separated within previous six months.

Categories of Records in the System:

This information is collected and/or maintained by all systems covered by this system of records: Name, social security number, selective service number, promotion history, assignment history, performance/awards history, date of birth, education/training history, prior employment history, prior uniformed service, relatives, references, discipline, insurance, and similar personal information.

Authority for Maintenance of the System:

Navigation and Navigable Waters, 33 U.S.C. 853a-t, 854a-a2, 855, 856, 857, 857-1-5, 857a, 858, 864, 865, 872-876; Departmental Regulations, 5 U.S.C. 301; Judiciary and Judicial Procedure, 28 U.S.C. 533-535; Records Management by Agency Heads, 44 U.S.C. 3101; and Security Requirements for Government Employment, E.O. 10450.

Purposes:

Selected information is disseminated to determine eligibility for retention, promotion, retirement, separation, and other personnel actions, entitlement to pay and various allowances, Veteran's benefits, unemployment compensation, death benefits, survivor benefits, and FHA In-service loans, assignments, and selective service status. Users are: Selective Service System; Veteran's Administration; Federal Housing Administration; Social Security Administration; Public Health Service; Department of Defense elements; Taxing authorities (Federal, State and local); unemployment compensation authorities; and the organization to which the officer is assigned such as branches of U.S. Military Service, branches of foreign military services, World Weather Organizations, etc.

Routine Uses of Records Maintained in the System:

In addition to those disclosures generally permitted under 5 U.S.C. 552a(b) of the Privacy Act, these records or information contained therein may specifically be disclosed outside the Department. The records or information contained therein may specifically be disclosed as a routine use as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records, may be referred to the appropriate agency, whether Federal, State, local, or foreign, charged with the responsibility of investigating or prosecuting such violation or charged with enforcing or implementing the statute or contract, rule, regulation, or order issued pursuant thereto, or protecting the interest of the Department.

2. A record from this system of records may be disclosed in the course of presenting evidence to a court, magistrate, hearing officer or administrative tribunal, including disclosures to opposing counsel in the course of settlement negotiations, administrative appeals and hearings.

3. A record in this system of records may be disclosed to a Member of Congress submitting a request involving an individual when the individual has requested assistance from the Member with respect to the subject matter of the record.

4. A record in this system of records may be disclosed to the Department of Justice in connection with determining whether the Freedom of Information Act (5 U.S.C. 552) requires disclosure thereof.

5. A record in this system of records may be disclosed to a contractor of the Department having need for the information in the performance of the contract but not operating a system of records within the meaning of 5 U.S.C. 552a(m).

6. A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

7. A record from this system of records may be disclosed, as a routine use, to a Federal, state or local agency maintaining civil, criminal or other relevant enforcement information or other pertinent information, such as current licenses, if necessary to obtain information relevant to a Department decision concerning the assignment; hiring or retention of an individual; the issuance of a security clearance; the letting of a contract; or the issuance of a license, grant or other benefit.

8. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

9. A record in this system of records may be disclosed, as a routine use, to the Office of Management and Budget in connection with the review of private relief legislation as set forth in OMB Circular No. A-19 at any stage of the legislative coordination and clearance process as set forth in that Circular.

10. A record in this system may be transferred, as a routine use, to the Office of Personnel Management: For personnel research purposes; as a data source for management information; for the production of summary descriptive statistics and analytical studies in support of the function for which the records are collected and maintained; or for related manpower studies.

11. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Department) directive. Such disclosure shall not be used to make determinations about individuals.

12. A record in this system of records which contains medical information may be disclosed, as a routine use, to the medical advisor of any individual submitting a request for access to the record under the Act and 15 CFR part 4b if, in the sole judgment of the Department, disclosure could have an adverse effect upon the individual, under the provision of 5 U.S.C. 552a(f)(3) and implementing regulations at 15 CFR part 4b.26.

Disclosure to Consumer Reporting Agencies:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

Policies and Practices for Storing, Retrieving, Accessing, Retaining, and Disposing of Records in the System:

Storage:

Paper records in file folders in a secured location and electronic records in a database.

Retrievability:

Records are organized and retrieved by the individual's name.

Safeguards:

Records are maintained in a secured area and in a database. Access is granted only on the authority of the Director, NOAA Corps or the Director, Commissioned Personnel Center.

Retention and Disposal:

Records are retained indefinitely on active duty officers; retired, discharged and deceased officers' records are retained for approximately one year then transferred to the National Archives and Records Administration (NARA), National Records Center, Kansas City, Missouri 64141.

System Manager and Address:

Director, NOAA Corps and Director, Commissioned Personnel Center (CPC), 8403 Colesville Road, Suite 500, NOAA, Silver Spring, Maryland 20910.

Notification Procedure:

Information may be obtained from: Director, CPC, see above address. Requester should provide full name, address, social security number, and date of birth, date of separation, pursuant to the inquiry provisions of the Department's rules which appear in 15 CFR part 4b.

Record Access Procedures:

See NOAA Corps Directive, Chapter 6, part 16107, Requests for Information.

Contesting Record Procedures:

The Department's rules for access, for contesting contents, and appealing initial determinations by the individuals concerned appear in 15 CFR part 4b.

Record Source Categories:

Subject individual, official correspondence and forms generated by routine personnel actions, previous employers, prior military service, Selective Service System, Federal Housing Administration, Social Security Administration, and similar sources.

Exemptions Claimed For System:

Pursuant to 5 U.S.C. 552a(k)(5), all investigatory material in the record which meets the criteria of 5 U.S.C. 552a(k)(5), is exempted from the notice, access, and contest requirements (under 5 U.S.C. 552a(c)(3), (d), (e)(1), (e)(4)(G), (H) and (I), and (f)) of the agency regulations in order to fulfill commitments made to protect the confidentiality of sources, and to maintain access to sources of information which are necessary to determine an employee's suitability for employment in the NOAA Corps.

Dated: May 2, 2016.
Michael J. Toland,
Department of Commerce, Freedom of Information/Privacy Act Officer.

[FR Doc. 2016-10541 Filed 5-4-16; 8:45 am]

BILLING CODE 3510-12-P